DEPARTMENT OF COMMERCE

National Telecommunications and Information Administration

47 CFR Chapter III

Docket Number: 0810021312-9654-02

RIN 0660-AA18

Low-Power Television and Translator Upgrade Program

AGENCY: National Telecommunications and Information Administration, U.S. Department of Commerce.

ACTION: Advanced notice of proposed rulemaking; withdrawal.

SUMMARY: The National Telecommunications and Information Administration (NTIA) is withdrawing the Advanced Notice of Proposed Rulemaking soliciting comments on the implementation of the Low-Power Television and Translator Upgrade Program (Upgrade Program). After reviewing and considering the comments received following two public meetings, the agency has decided not to proceed with regulations to implement the Upgrade Program. NTIA will establish and implement the Upgrade Program through a Notice of Availability of Funds (NOFA) to be published shortly.

EFFECTIVE DATE: April 20, 2009.

FOR FURTHER INFORMATION CONTACT: William Cooperman, Upgrade Program, Director Broadcasting Division, telephone: (202) 482-5802; fax: (202) 482-2156. Information about the Upgrade Program also can be obtained electronically via the Internet at http://www.ntia.doc.gov/lptv.

SUPPLEMENTARY INFORMATION:

Background

Section 3009 of the Deficit Reduction Act of 2005, Pub. L. No. 109-171, 120 Stat. 4, 21 (2006), required the National Telecommunications and Information Administration (NTIA) to implement and administer the Low-Power Television and Translator Upgrade Program (Upgrade Program). The Upgrade Program is intended to provide reimbursement to eligible low-power television broadcast stations, Class A television stations, television translator stations, or television booster stations for equipment to upgrade from analog to digital in eligible rural communities. On October 9, 2008, NTIA published an Advanced Notice of Proposed Rulemaking and Notice of Public Meetings, 73 Fed. Reg. 59,586 (2008), to announce two public meetings (October 24 and October 28, 2008) about the Upgrade Program and to provide an opportunity for public comment on the issues to be discussed at these public meetings.

NTIA received 24 public comments on the Upgrade Program through mid-November 2008. Information provided at the October 24, 2008, public meeting and the comments received are available on NTIA's Web site at http://www.ntia.doc.gov/lptv/upgrade.html. After reviewing and considering the comments received, NTIA has decided not to proceed with regulations to implement the program. NTIA will issue a NOFA that provides detailed information concerning the implementation of the program in the Federal Register. The comments received will be fully discussed in the NOFA.

Dated: April 14, 2009.
Anna M. Gomez,
Acting Assistant Secretary for Communications and Information.

[FR Doc. E9-8989 Filed 4-17-09; 8:45 am]

BILLING CODE 3510-60-S